DEPARTMENT OF THE INTERIOR

Fish and Wildlife Service

[FWS-R2-ES-2020-N126; FXES11140200000-201-FF02ENEH00]

Draft Amendment to the Environmental Assessment/Habitat Conservation Plan Previously Associated With the 440-acre Schlumberger Property for Concordia University, Texas

AGENCY: Fish and Wildlife Service, Interior.

ACTION: Notice of availability; request for public comments.

SUMMARY: Concordia University has applied to the U.S. Fish and Wildlife Service for an amended incidental take permit (ITP) under the Endangered Species Act. The requested amended ITP, if granted, would authorize incidental take of the Jollyville Plateau salamander, in addition to the already existing ITP for golden-cheeked warbler. The proposed incidental take would result from activities associated with otherwise lawful activities, including construction, operation, and maintenance of Concordia University, that result in water quality and habitat degradation. Under the National Environmental Policy Act, we invite public comment on the draft environmental assessment on the proposed amended habitat conservation plan and application.

DATES: To ensure consideration, written comments must be received or postmarked on or before January 14, 2021. We may not consider any comments we receive after the closing date in the final decision on this action.

ADDRESSES: Accessing Documents:

Internet: The dEA and HCP: You may obtain electronic copies of these documents at http://www.fws.gov/southwest/es/AustinTexas/.

U.S. Mail: You may obtain the documents by writing to the following addresses. In your request for documents, please reference Concordia University HCP and ITP Amendment (TE827597-4).

• DEA and HCP: A limited number of CD-ROM and printed copies of the dEA and HCP are available, by request, from Mr. Jacob Ogdee; Austin Ecological Services Field Office; U.S. Fish and Wildlife Service; 10711 Burnet Road, Suite 200; Austin, TX 78758; telephone 512-490-0057; fax 512-490-0974.

• ITP application: The ITP application is available from the Assistant Regional Director—Ecological Services; U.S. Fish and Wildlife Service; P.O. Box 1306, Room 6034; Albuquerque, NM 87103; Attention: Environmental Review Branch.

Submitting Comments: Regarding any of the three documents available for review, you may submit written comments by one of the following methods. In your comments, please reference Concordia University HCP and ITP Amendment (TE-827597-4).

Email: FW2_AUES_Consult@fws.gov.

U.S. Mail: Mr. Adam Zerrenner, Austin Ecological Services Field Office, 10711 Burnet Road, Suite 200, Austin, TX 78758-4460; telephone 512-490-0057; fax 512-490-0974.

We request that you send comments by only one of the methods described above.

FOR FURTHER INFORMATION CONTACT: Adam Zerrenner Field Supervisor, by mail at U.S. Fish and Wildlife Service, 10711 Burnet Road, Suite 200, Austin, TX 78758; via phone at 512-490-0057 or via the Federal Relay Service at 800-877-8339.

SUPPLEMENTARY INFORMATION: We, the U.S. Fish and Wildlife Service (Service), make available a draft environmental assessment (dEA) under the National Environmental Policy Act for the Habitat Conservation Plan for an Endangered Species Act Section 10(a)(1)(B) Incidental Take Permit for the Golden-cheeked Warbler Previously Associated with the 440-acre Schlumberger Property to Include Incidental Take of the Jollyville Plateau Salamander Due to Activities Associated with the Construction, Operation, and Maintenance of Concordia University Texas, in Travis County, Texas. Concordia University applied for an amendment to their existing HCP and incidental take permit (ITP) under the Endangered Species Act (16 U.S.C. 1531 et seq.) that would add authorization for incidental take of the Jollyville Plateau salamander (Eurycea tonkawae) to the already permitted incidental take of golden-cheeked warbler (Setophaga chrysoparia). The dEA evaluates the impacts of, and alternatives to, implementation of the proposed HCP.

Background

Section 9 of the ESA (16 U.S.C. 1531 et seq.) and its implementing regulations prohibit the “take” of animal species listed as endangered or threatened. Take is defined under the ESA as to “harass, harm, pursue, hunt, shoot, wound, kill, trap, capture, or collect listed animal species, or to attempt to engage in such conduct” (16 U.S.C. 1538). However, under section 10(a) of the ESA, we may issue permits to authorize incidental take of listed species. “Incidental take” is defined by the ESA as take that is incidental to, and not the purpose of, carrying out an otherwise lawful activity. Regulations governing such take of endangered and threatened species, respectively, are found in the Code of Federal Regulations at 50 CFR 17.22 and 50 CFR 17.32.

Alternatives

Proposed Action

The proposed action involves the issuance of an amended ITP by the Service for the covered activities in the permit area, under section 10(a)(1)(B) of the ESA. The ITP would cover “take” of the covered species associated with construction, operation, and maintenance of Concordia University within the permit area. An application for an ITP must include a HCP that describes the conservation measures the applicant has agreed to undertake to minimize and mitigate for the impacts of the proposed taking of covered species to the maximum extent practicable. The applicant will fully implement the HCP if approved by the Service. The terms of the HCP and ITP will also ensure that incidental take will not appreciably reduce the likelihood of the survival and recovery of the species in the wild.

No Action Alternative

We have considered one alternative to the proposed action as part of this process: No Action. Under a No Action alternative, the Service would not issue the requested amended ITP, and applicant either would not continue with the construction, operation, and maintenance of Concordia University or would conduct those activities in a manner that avoids incidental take. Therefore, the applicant would not implement the conservation measures described in the HCP.

Next Steps

We will evaluate the EA, HCP, and comments we receive, to determine whether the ITP application meets the requirements of section 10(a) of the ESA (16 U.S.C. 1531 et seq.). We will also evaluate whether issuance of an ESA section 10(a)(1)(B) permit would comply with section 7 of the ESA by conducting an intra-Service section 7 consultation. We will use the results of this consultation, in combination with the above findings, in our final analysis to determine whether to issue an ITP. If all necessary requirements are met, we will issue the ITP to the applicant.

Public Availability of Comments

Written comments we receive become part of the public record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Authority

We provide this notice under section 10(c) of the ESA and its implementing regulations (50 CFR 17.22 and 17.32) and the National Environmental Policy Act (42 U.S.C. 4321 et seq.) and its implementing regulations (40 CFR 1506.6).

Amy L. Lueders,
Regional Director, Southwest Region, Albuquerque, New Mexico.

[FR Doc. 2020-27582 Filed 12-14-20; 8:45 am]

BILLING CODE 4333-15-P